DEPARTMENT OF THE INTERIOR

National Park Service

Availability of the Abbreviated Final Environmental Impact Statement and General Management Plan Amendment for Dayton Aviation Heritage National Historical Park, OH

AGENCY: National Park Service, Interior.

SUMMARY: Pursuant to section 102(2)(C) of the National Environmental Policy Act of 1969 (42 U.S.C. 4332(c)), the National Park Service (NPS) announces the availability for the Abbreviated Final Environmental Impact Statement and General Management Plan Amendment (EIS/GMPA) for Dayton Aviation Heritage National Historical Park, Ohio.

DATES: The Abbreviated Final EIS/GMPA will remain available for public review for 30 days following the publishing of the notice of its availability in the Federal Register by the U.S. Environmental Protection Agency.

ADDRESSES: Requests for copies should be sent to the Superintendent, Dayton Aviation Heritage National Historical Park, P.O. Box 9280, Wright Brothers Station, Dayton, Ohio 45409-7705. You may also view the document via the Internet through the NPS Planning, Environment, and Public Comment (PEPC) Web site (http://parkplanning.nps.gov); simply click on the link to Dayton Aviation Heritage National Historical Park.

SUPPLEMENTARY INFORMATION: The NPS prepared a Draft EIS/GMPA for Dayton Aviation Heritage National Historical Park pursuant to section 102(2)(c) of the National Environmental Policy Act of 1969. The draft was made available for public review for 60 days (January-March) during which time the NPS distributed over 200 copies of the draft. In addition to the distribution, the draft EIS/GMPA was also made available at the park, on the Internet, and at area libraries. A total of 10 written comments were received, and 20 participants attended 2 open houses. The consensus from the public comment period was that the NPS is pursuing the correct path for the site in Alternatives C, the preferred alternative. Comments from individuals and public agencies did not require the NPS to add other alternatives, significantly alter existing alternatives, or make changes to the impact analysis of the effects of any alternative. Because of the lack of substantive comments, the NPS is issuing an abbreviated final EIS/GMPA.

FOR FURTHER INFORMATION CONTACT: The Superintendent, Dayton Aviation Heritage National Historical Park, P.O. Box 9280, Wright Brothers Station, Dayton, Ohio 45409-7705, telephone 937-225-7705.

Dated: August 15, 2006.
Ernest Quintana,
Director, Midwest Region.

Editorial Note: This document was received at the Office of the Federal Register on April 3, 2007.

[FR Doc. 07-1711 Filed 4-6-07; 8:45 am]

BILLING CODE 4312-88-M